DEPARTMENT OF DEFENSE

Department of the Army

Availability for Non-Exclusive, Exclusive, or Partially Exclusive Licensing of U.S. Provisional Patent Applications Concerning Identification of Small Molecule Inhibitors of Anthrax Lethal Factor

Correction

In notice document 04-20521 appearing on page 54769 in the issue of Friday, September 10, 2004, make the following correction:

In the second column, in the SUMMARY section, in the eighth line, after “Identification of Small Molecule Inhibitors of Anthrax Lethal Factor,” and before “filed December 24, 2003” insert the following, “filed January 6, 2004; and U.S. Provisional Patent Application Serial No. 60/533,375 entitled, “Identification of Small Molecule Inhibitors of Anthrax Lethal Factor,”.”

[FR Doc. C4-20521 Filed 9-20-04; 8:45 am]

BILLING CODE 1505-01-D

ENVIRONMENTAL PROTECTION AGENCY

40 CFR Part 136

[FRL-7813-5]

Potential Stakeholder Process for Detection and Quantitation Procedures

Correction

In proposed rule document 04-20795 appearing on page 55547 in the issue of Wednesday, September 15, 2004, make the following correction:

On page 55547, in the first column, in the ACTION heading, “Notice of proposed rule.” should read “Notice of potential stakeholder process.”.

[FR Doc. C4-20795 Filed 9-20-04; 8:45 am]

BILLING CODE 1505-01-D

DEPARTMENT OF TRANSPORTATION

Federal Aviation Administration

14 CFR Part 39

[Docket No. FAA-2004-19017; Directorate Identifier 2004-NM-144-AD; Amendment 39-13782; AD 2004-18-04]

RIN 2120-AA64

Airworthiness Directives; McDonnell Douglas Model MD-10-10F, MD-10-30F, MD-11, MD-11F, and 717-200 Airplanes

Correction

In rule document 04-20015 beginning on page 53794 in the issue of Friday, September 3, 2004, make the following correction:

§39.13 [Corrected]

On page 53795, in the second column, in §39.13(c), in the third line “MD-11F” should read “MD-11, MD-11F”.

[FR Doc. C4-20015 Filed 9-20-04; 8:45 am]

BILLING CODE 1505-01-D

DEPARTMENT OF TRANSPORTATION

Federal Aviation Administration

14 CFR Part 39

[Docket No. 2002-CE-23-AD; Amendment 39-13772; AD 2004-17-01]

RIN 2120-AA64

Airworthiness Directives; Cessna Aircraft Company Models 208 and 208B Airplanes

Correction

In rule document 04-18554 beginning on page 50056 in the issue of Friday, August 13, 2004, make the following corrections:

§39.13 [Corrected]

1. On page 50060, in § 39.13(e), in the table, under the column titled “Actions”, in entry (2)(ii), “P/N 262281-1” should read “P/N 2622281-1”.

2. On the same page, in the same section, in the same table, in the same column, in entry (4)(vi), “P/N 2622091-28” should read “P/N 2622091-18”.

3. On the same page, in the same section, in the same table, in the same column, in entry (5)(1), “(1)” should read “(i)”.

4. On page 50061, in § 39.13(f), in the table, in the column titled “Actions”, in entry (2)(i), the second line should read as follows: “2622281-2, 2622281-12, 2692001-2 or FAA-”.

5. On the same page, in the same section, in the same table, in the same column, in entry (2)(ii), in the first line, “P/M 262231-7” should read “P/N 2622311-7”.

[FR Doc. C4-18554 Filed 9-20-04; 8:45 am]

BILLING CODE 1505-01-D